NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 20, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-02-3, 81 items, 81 temporary items). Electronic versions of temporary records relating to supply and transportation matters. Included are electronic copies of documents created using electronic mail and word processing as well as electronic records that supplement or replace paper records already approved for disposal. Records relate to such matters as property accountability, inventory management, warehouse space planning, motor vehicle operation and maintenance, cargo and passenger manifests, and the packaging, handling, and inspection of shipped property.

2. Department of the Air Force, Agency-wide (N1-AFU-02-4, 120 items, 120 temporary items). Electronic versions of temporary records relating to member services, public affairs activities, and information management. Included are electronic copies of documents created using electronic mail and word processing as well as electronic records that supplement or replace paper records already approved for disposal. Records relate to such matters as clubs and recreational activities, library administration, child care operations, cemeteries and burials, food services, laundry and dry cleaning operations, non-appropriated fund financial and personnel administration, Air Force news media, office administration, reprographics, records management, the Privacy Act program, and mail, publications, and forms management.

3. Department of the Army, Agency-wide (N1-AU-02-7, 2 items, 2 temporary items). Records relating to non-appropriated fund employee job descriptions. Included are master job descriptions, job standards, and similar information used in the analysis, development, and evaluation of specific jobs. Also included are electronic copies of documents created using electronic mail and word processing. The schedule also authorizes the agency to apply the proposed disposition instructions to any recordkeeping medium.

4. Department of Defense, Defense Contract Audit Agency (N1-372-02-3, 3 items, 3 temporary items). Records pertaining to leased office equipment that are used to determine payments due vendors. Included are statistical reports provided to commercial concerns and electronic copies of documents created using electronic mail and word processing.

5. Department of Defense, Defense Information Systems Agency (N1-371-02-3, 3 items, 3 temporary items). Communications security administrative files. Included are correspondence, messages, and other facilitative records relating to measures taken to protect telecommunications from unauthorized access. Also included are electronic copies of documents created using electronic mail and word processing.

6. Department of Energy, Southeastern Power Administration (N1-388-00-01, 100 items, 68 temporary items). Comprehensive records schedule covering files of the Office of the Administrator, Legal Affairs, the Division of Finance and Marketing, the Division of Power Operations, and the Division of Human Resources and Administration. Records proposed for disposal include such file series as general correspondence, administrative files, recurring reports, power contracts, geological studies, daily operating logs, billing invoices, routine audits, and conference planning materials. Also included are electronic copies of documents created using electronic mail and word processing. Proposed for permanent retention are recordkeeping copies of such files as the administrator's correspondence files, meeting minutes, legal policies, power marketing and management policies, legislative history case files, budget histories, engineering studies, speeches, press releases, significant photographs, audio-visual recordings, and publications.

7. Department of State, Bureau of Intelligence and Research (N1-59-01-15, 28 items, 15 temporary items). Records of the Office of Intelligence Resources relating to committees, boards, and working groups on which office staff serve as members only. Also included are electronic copies of documents created using electronic mail and word processing. Proposed for permanent retention are recordkeeping copies of files relating to such matters as foreign intelligence relationships, signals intelligence, intelligence collection activities, intelligence sharing, and the activities of committees, boards, and working groups for which the office serves as secretariat.

8. Department of State, Bureau of Political-Military Affairs (N1-59-01-24, 20 items, 17 temporary items). Files accumulated by the Assistant Secretary and Deputy Assistant Secretaries, including such records as electronic tracking systems for correspondence, schedules of daily activities, congressional inquiries, reference copies of National Security Directives, and copies of documents with special restrictions. Also included are electronic copies of documents created using electronic mail and word processing. Proposed for permanent retention are recordkeeping copies of chronological and program files of the Assistant Secretary, Deputy Assistant Secretaries, and other front office principals as well as a finding aid to the chronological files.

9. Department of the Treasury, Bureau of Alcohol, Tobacco and Firearms (N1-436-01-1, 4 items, 4 temporary items). Alcohol label applications records including applications, approvals, denials, and related papers. Also included are electronic copies of documents created using electronic mail and word processing.

10. Department of the Treasury, International Financial Institutions Advisory Commission (N1-220-02-12, 5 items, 2 temporary items). Electronic copies of records created using electronic mail and word processing. Proposed for permanent retention are recordkeeping copies of such files as correspondence, hearing records, and reports, including the Commission's report to Congress.

11. Department of the Treasury, International Monetary Fund Advisory Committee (N1-220-02-13, 3 items, 2 temporary items). Electronic copies of records created using electronic mail and word processing. Recordkeeping copies of correspondence files are proposed for permanent retention.

12. National Archives and Records Administration, Agency-wide (N1-64-02-1, 9 items, 6 temporary items). Administrative planning records for professional and scholarly conferences, symposia, ceremonies, and events. Included are electronic copies of records created using electronic mail and word processing. Proposed for permanent retention are recordkeeping copies of such records as program proceedings and video and audio recordings of conferences and symposia.

13. National Archives and Records Administration, Agency-wide (N1-64-02-7, 2 items, 2 temporary items). User logs and system audit data for research room personal computers.

14. National Archives and Records Administration, Agency-wide (N1-64-02-8, 1 item, 1 temporary item). Routine requests for information, forms, and publications for which no research is required for reply.

15. National Credit Union Administration, Office of Strategic Planning (N1-413-02-3, 4 items, 3 temporary items). Files relating to the Government Performance and Results Act, including such records as correspondence, plans, distribution lists, planning schedules, semi-annual performance plans, audits/reviews, background papers, and other administrative records. Also included are electronic copies of documents created using electronic mail and word processing. Proposed for permanent retention are recordkeeping copies of strategic plans, annual performance plans, annual operating plans, and annual performance reports.

16. National Credit Union Administration, Office of General Counsel (N1-413-02-4, 10 items, 6 temporary items). Records relating to litigation and administrative hearings. Also included are electronic copies of documents accumulated by the Office of General Counsel created using electronic mail and word processing. Records proposed for permanent retention include recordkeeping copies of legal opinions, Freedom of Information Act reports, and rulemaking files.

17. National Credit Union Administration, Office of Corporate Credit Unions (N1-413-02-5, 5 items, 3 temporary items). Inputs and outputs for an electronic system relating to credit union supervision, examination, and insurance activities. The electronic data is proposed for permanent retention along with the related system documentation.

Dated: March 29, 2002.
Michael J. Kurtz,
Assistant Archivist for Record Services—Washington, DC.

[FR Doc. 02-8127 Filed 4-3-02; 8:45 am]

BILLING CODE 7515-01-P